DEPARTMENT OF HEALTH AND HUMAN SERVICES

National Institutes of Health

Center for Scientific Review; Amended Notice of Meeting

Notice is hereby given of a change in the meeting of the Instrumentation and Systems Development Study Section, September 22, 2011, 8 a.m. to September 23, 2011, 5 p.m., Courtyard by Marriott, 5520 Wisconsin Avenue, Chevy Chase, MD, 20815 which was published in the Federal Register on August 11, 2011, 76 FR 49779-49780.

The meeting will be held September 21, 2011, 7 p.m. to September 23, 2011, 5 p.m. The meeting location remains the same. The meeting is closed to the public.

Dated: August 22, 2011.
Jennifer S. Spaeth,
Director, Office of Federal Advisory Committee Policy.

[FR Doc. 2011-22204 Filed 8-30-11; 8:45 am]

BILLING CODE 4140-01-P